DEPARTMENT OF HEALTH AND HUMAN SERVICES

Administration for Community Living

Agency Information Collection Activities; Proposed Collection; Public Comments Request; Extension of a Currently Approved Information Collection; Funding Opportunity Announcement and Grant Application Instructions Template for ACL Discretionary Grant Programs

AGENCY: Administration for Community Living, HHS.

ACTION: Notice.

SUMMARY: The Administration for Community Living (ACL) is announcing an opportunity for the public to comment on ACL's intention to collect information from applicants for discretionary grant awards. Under the Paperwork Reduction Act of 1995 (the PRA), Federal agencies are required to publish a notice in the Federal Register concerning each proposed collection of Information, including each proposed extension of an existing collection of information, and to allow 60 days for public comment in response on the proposed action. This notice solicits comments on the proposed information collection requirements relating to the Funding Opportunity Announcement and Grant Application Instructions template for ACL Discretionary Grant Programs.

DATES: Submit written or electronic comments on the collection of information by April 3, 2017.

ADDRESSES: Submit electronic comments on the collection of information to: mark.snyderman@acl.hhs.gov. Submit written comments on the collection of information by mail to Mark Snyderman, Administration for Community Living, Washington, DC 20201.

FOR FURTHER INFORMATION CONTACT: Mark Snyderman at (202) 795-7439 or mark.snyderman@acl.hhs.gov.

SUPPLEMENTARY INFORMATION: Under the PRA (44 U.S.C. 3501-3520), Federal agencies must obtain approval from the Office of Management and Budget (OMB) for each collection of information they conduct or sponsor. “Collection of information” is defined in 44 U.S.C. 3502(3) and 5 CFR 1320.3(c) and includes agency request or requirements that members of the public submit reports, keep records, or provide information to a third party. Section 3506(c)(2)(A) of the PRA (44 U.S.C. 3506(c)(2)(A)) requires Federal agencies to provide a 60-day notice in the Federal Register concerning each proposed collection of information, including each proposed extension, or update, of an existing collection of information, before submitting the collection to OMB for approval. The proposed data collection represents an extension with minor changes and updates (ICR-Chg). To comply with the above requirement, ACL is publishing a notice regarding the proposed collection of information set forth in this document. Interested persons are invited to send comments regarding our burden estimates or any other aspect of this collection of information, including the following subjects: (1) Whether the proposed collection of information is necessary for the proper performance of ACL's functions, including whether the information will have practical utility; (2) the accuracy of ACL's estimate of the burden of the proposed collection of information, including the validity of the methodology and assumptions used; (3) ways to enhance the quality, utility, and clarity of the information to be collected; and (4) ways to minimize the burden of the collection of information on respondents, including through the use of automated collection techniques, when appropriate, and other forms of information technology.

Proposed Collection of Information

ACL plans to submit to the Office of Management and Budget for approval the Funding Opportunity Announcement and Grant Application Instructions Template for ACL Discretionary Grants Programs. The instructions explain the requirements and provide instructions on how to submit an application for funding to the Administration for Community Living. ACL funds discretionary grants under the Developmental Disabilities Assistance and Bill of Rights Act of 2000 (DD Act), which is administered by the Administration on Intellectual and Developmental Disabilities (AIDD), the Older Americans Act (OAA), which is administered by the Administration on Aging (AoA), as well as the Rehabilitation Act of 1973, which authorizes the National Institute on Independent Living and Rehabilitation Research (NIDILRR) and Independent Living programs. In addition, ACL is responsible for administering eight other authorizing statutes or portions of statutes relevant to older Americans and individuals with disabilities. Through its discretionary grant programs, the Administration for Community Living (ACL) supports projects that develop and test new knowledge and program innovations with the potential for maximizing the independence, well-being, and health of older adults, people with disabilities across the lifespan, and their families and caregivers.

The proposed changes are few in number and are intended to simplify the instructions and reduce burden. For example, the requirements for average projected award amount and proposed start and end date requirements to start on the first day of the month have been eliminated. The Funding Opportunity Announcement (FOA) template may be found on the ACL Web site at: www.acl.gov/Funding_Opportunities/Announcements/docs/ACL_PA_Template_FINAL.docx.

The number of respondents associated with this collection of information varies depending on the appropriation for that fiscal year and the number of grants turning over from the previous fiscal year. The number of ACL FOAS increased from 24 in FY 2013 to 62 in FY 2016. This number is over double the number published in FY 2013, the last time this data collection was approved by OMB. We believe that the increase is primarily due to the expansion in the number of programs administered by ACL since that period, including the addition of the State Health Insurance Assistance Program (SHIP), National Institute on Disability, Independent Living, and Rehabilitation Research (NIDILRR), Assistive Technology Programs, Paralysis Resource Center, Limb Loss Resource Center, and Traumatic Brain Injury program. For FY 2017, we estimate that the number of FOAs for FY 2017 will be 34 based on the average number of FOAs published from FY 2013-2016. The number of respondent per FOA in FY 2013 was 350 (14.5 applicants per FOA). Using an estimate of 14.5 applications per FOA, we increased the estimated number of respondents to 493. In addition, the average hour burden per respondent in FY 2013 was 48. We increased this number to 56 hours to account for the effect of the additional time it takes to prepare research proposals for NIDILRR competitions on the average burden hours per respondent. Applicants include State agencies, other public agencies, private nonprofit programs, institutions of higher education, and organizations, including tribal organizations.

| Number of competitions | Applicants per FOA | Number of respondents | Frequency of response per year | Average hour burden per respondent | Total estimated data burden
Other ACL | 34 | 14.5 | 493 | 1 | 48 | 23,664
NIDILRR | 16 | 16 | 256 | 1 | 220 | 56,320
Totals | 50 | 30.5 | 749 | 1 | 268 | 79,984

Estimated Number of Responses: 749 annually. Total Estimated Burden Hours: 79,984.

Dated: January 27, 2017.
Edwin Walker,
Acting Administrator and Assistant Secretary for Aging.

[FR Doc. 2017-02210 Filed 1-30-17; 4:15 pm]

BILLING CODE 4154-01-P